DEPARTMENT OF THE INTERIOR

National Park Service

[NPS-WASO-NAGPRA-NPS0026942; PPWOCRADN0-PCU00RP14.R50000]

Notice of Inventory Completion: Department of Anthropology Museum at the University of California, Davis, Davis, CA; Correction

AGENCY: National Park Service, Interior.

ACTION: Notice; correction.

SUMMARY: The University of California, Davis (UC Davis) has corrected an inventory of human remains and associated funerary objects, published in a Notice of Inventory Completion in the Federal Register on August 13, 2008. This notice corrects the minimum number of individuals and number of associated funerary objects. Lineal descendants or representatives of any Indian Tribe or Native Hawaiian organization not identified in this notice that wish to request transfer of control of these human remains and associated funerary objects should submit a written request to UC Davis. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to UC Davis at the address in this notice by January 4, 2019.

ADDRESSES: Megon Noble, NAGPRA Project Manager, University of California, Davis, 433 Mrak Hall, One Shields Avenue, Davis, CA 95616, telephone (530) 752-8501, email mnoble@ucdavis.edu.

SUPPLEMENTARY INFORMATION: Notice is hereby given in accordance with the Native American Graves Protection and Repatriation Act (NAGPRA), 25 U.S.C. 3003, of the correction of an inventory of human remains and associated funerary objects under the control of the University of California, Davis, Davis, CA. The human remains and associated funerary objects were removed from CA-YOL-17 in Yolo County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (73 FR 47228-47229, August 13, 2008). Additional human remains were newly identified after review of faunal collections. In addition, human remains from this site previously identified as culturally unidentifiable were re-evaluated in consultation and determined to be culturally affiliated. Based on consultation and review of the original field records, associated funerary objects were added. Transfer of control of the items in this correction notice has not occurred.

Correction

In the Federal Register (73 FR 47229, August 13, 2008), column one, paragraph one, sentence one is corrected by substituting the following sentence:

In 1967, human remains representing a minimum of four individuals were removed from CA-YOL-17 in Yolo County, CA, by the University of California, Davis archeological field school (Accession 33).

In the Federal Register (73 FR 47229, August 13, 2008), column one, paragraph one, sentence three is corrected by substituting the following sentence:

The 43 associated funerary objects are two Olivella shell beads, six lots of non-human bone, one lot of ochre, one bone tube, one charcoal sample, one pine hull fragment, one shell bead, one charmstone, 21 Haliotis sp. Shell beads, two shells, two clam shell disk beads, two steatite beads, and two miscellaneous worked bone fragments.

In the Federal Register (73 FR 47229, August 13, 2008), column 1, paragraph 3, sentence one is corrected by substituting the following sentence:

Officials of the Department of Anthropology Museum at the University of California, Davis have determined that, pursuant to 25 U.S.C. 3001 (9-10), the human remains described above represent the physical remains of 11 individuals of Native American ancestry.

In the Federal Register (73 FR 47229, August 13, 2008), column 1, paragraph 3, sentence two is corrected by substituting the following sentence:

Officials of the Department of Anthropology Museum at the University of California, Davis also have determined that, pursuant to 25 U.S.C. 3001 (3) (A), the 6,935 objects described above are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Megon Noble, NAGPRA Project Manager, University of California, Davis, 433 Mrak Hall, One Shields Avenue, Davis, CA 95616, telephone (530)752-8501, email mnoble@ucdavis.edu, by January 4, 2019. After that date, if no additional requestors have come forward, transfer of control of the human remains and associated funerary objects to Cachil DeHe Band of Wintun Indians of the Colusa Indian Community of the Colusa Rancheria, California; Kletsel Dehe Band of Wintun Indians (previously listed as the Cortina Indian Rancheria and the Cortina Indian Rancheria of Wintun Indians of California); and the Yocha Dehe Wintun Nation, California (previously listed as the Rumsey Indian Rancheria of Wintun Indians of California), hereafter referred to as “The Tribes” may proceed.

The University of California, Davis is responsible for notifying The Tribes that this notice has been published.

Dated: November 7, 2018.
Melanie O'Brien,
Manager, National NAGPRA Program.

[FR Doc. 2018-26444 Filed 12-4-18; 8:45 am]

BILLING CODE 4312-52-P